ENVIRONMENTAL PROTECTION AGENCY

40 CFR Part 180

[EPA-HQ-OPP-2019-0384; FRL-10000-85]

Receipt of a Pesticide Petition Filed for Residues of Pesticide Chemicals in or on Various Commodities (PP 8F8708)

AGENCY: Environmental Protection Agency (EPA).

ACTION: Notice of filing of petition and request for comment.

SUMMARY: This document announces the Agency's receipt of a corrected filing of a pesticide petition requesting the establishment of regulations for residues of indoxacarb in or on certain popcorn commodities.

DATES: Comments must be received on or before March 26, 2020.

ADDRESSES: Submit your comments, identified by docket identification (ID) number EPA-HQ-OPP-2019-0384, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael L. Goodis, Director, Registration Division (7505P), Office of Pesticide Programs, Environmental Protection Agency, 1200 Pennsylvania Avenue NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

In the Federal Register of August 2, 2019 (84 FR 37818) (FRL-9996-78), EPA issued a document pursuant to the Federal Food, Drug, and Cosmetic Act (FFDCA) section 408(d)(3), 21 U.S.C. 346a(d)(3), announcing the filing of a pesticide petition (PP 8F8708) by E.I. DuPont de Nemours and Company, 974 Centre Road, Wilmington, DE 19805. EPA's notice stated that the petition requested that the Agency establish tolerances for residues of the insecticide indoxacarb in or on corn, pop, grain at 0.02 parts per million (ppm) and corn, pop, stover at 15 ppm.

In a comment submitted to the docket for that notice, FMC Corporation informed the Agency that although the August 2, 2019 notice identified E.I. DuPont de Nemours and Company as the petitioner, FMC Corporation had actually submitted the petition to the Agency requesting the indoxacarb tolerances. In addition, FMC Corporation noted that the summary of the petition included in the docket for this action was not the petition that FMC Corporation had submitted requesting tolerances for residues of indoxacarb on popcorn, but rather, it was a resubmission of the 2016 summary of the petition from E.I. DuPont de Nemours and Company for the other corn commodities. Subsequently, FMC Corporation submitted a revised petition requesting tolerances for residues of indoxacarb in or on corn, pop, grain at 0.02 ppm and corn, pop, stover at 15 ppm. Upon receiving the corrected petition, EPA determined that the petition contains the data or information prescribed in FFDCA section 408(d)(2), 21 U.S.C. 346a(d)(2). EPA is now publishing notice of that receipt for public comment pursuant to section 408(d)(3) of FFDCA. The summary of the petition (pesticide petition 8F8708) as drafted and submitted by FMC Corporation, 2929 Walnut Street, Philadelphia, PA 19104, is included in the docket for this petition, at http://www.regulations.gov with the docket identification number EPA-HQ-OPP-2019-0384. After considering public comments, EPA intends to evaluate whether and what action may be warranted.

Authority: 21 U.S.C. 346a.

Dated: January 3, 2020.
Michael L. Goodis,
Director, Registration Division, Office of Pesticide Programs.

[FR Doc. 2020-03637 Filed 2-24-20; 8:45 am]

BILLING CODE 6560-50-P